DEPARTMENT OF COMMERCE

National Oceanic and Atmospheric Administration

50 CFR Part 679

[Docket No. 010112013-1013-01; I.D. 031301A]

Fisheries of the Exclusive Economic Zone Off Alaska; Pollock in the West Yakutat District of the Gulf of Alaska; Correction

AGENCY: National Marine Fisheries Service (NMFS), National Oceanic and Atmospheric Administration (NOAA), Commerce.

ACTION: Closure; correction.

SUMMARY: This document corrects the effective date of the closure for directed pollock fishing in the West Yakutat District of the Gulf of Alaska, which was published in the Federal Register on March 19, 2001.

DATES: Effective 1200 hrs, Alaska local time (A.l.t.), March 15, 2001, until 2400 hrs, A.l.t. December 31, 2001.

FOR FURTHER INFORMATION CONTACT: Mary Furuness, 907-586-7228.

SUPPLEMENTARY INFORMATION:

Correction

In the document closing directed fishing for pollock in the West Yakutat District of the Gulf of Alaska, published at 66 FR 15359, March 19, 2001, FR Doc. 01-6728, the following correction is made:

On page 15360, column 1, under the DATES heading, line 2, “March 1, 2001” is corrected to read “March 15, 2001”.

Dated: March 20, 2001.
Bruce C. Morehead,
Acting Director, Office of Sustainable Fisheries, National Marine Fisheries Service.

[FR Doc. 01-7431 Filed 3-23-01; 8:45 am]

BILLING CODE 3510-22-S